SOCIAL SECURITY ADMINISTRATION

Agency Information Collection Activities: Comment Request

The Social Security Administration (SSA) publishes a list of information collection packages requiring clearance by the Office of Management and Budget (OMB) in compliance with Public Law (Pub. L.) 104-13, the Paperwork Reduction Act of 1995, effective October 1, 1995. This notice includes a revision to OMB-approved information collection.

SSA is soliciting comments on the accuracy of the agency's burden estimate; the need for the information; its practical utility; ways to enhance its quality, utility, and clarity; and ways to minimize the burden on respondents, including the use of automated collection techniques or other forms of information technology. Mail, email, or fax your comments and recommendations on the information collection(s) to the OMB Desk Officer and the SSA Director for Clearance to the addresses or fax numbers shown below.

(OMB)

Office of Management and Budget, Attn: Desk Officer for SSA, Fax: 202-395-6974, E-mail address: OIRA_Submission@omb.eop.gov.

(SSA)

Social Security Administration, DCBFM, Attn: Director, Center Clearance Officer, 1333 Annex Building, 6401 Security Blvd., Baltimore, MD 21235, Fax: 410-965-6400, E-mail address: OPLM.RCO@ssa.gov.

I. SSA has submitted the information collection we list below to OMB for clearance. Your comments on the information collection would be most useful if OMB and SSA receive them within 30 days from the date of this publication. To be sure we consider your comments, we must receive them no later than December 17, 2009. You can obtain a copy of the OMB clearance package by calling the SSA Director for Reports Clearance at 410-965-0454 or by writing to the above email address.

1. Social Security Benefits Application—20 CFR 404.310-.311, .315-.322, .330-.333, 601-.603, and .1501-.1512—0960-0618. This collection comprises the various application modalities for retirement, survivors, and disability benefits. These modalities include paper forms (SSA Forms SSA-1, SSA-2, and SSA-16), Modernized Claims System (MCS) screens for in-person field office interview applications, and the Internet based iClaim application. This information collection request (ICR) will expand the potential user base for iClaim.

Type of Collection: Revision to an existing Office of Management and Budget-approved information collection.

Paper Forms/Accompanying MCS Screens/Burden Information:

Form SSA-1
Collection method | Number of respondents | Frequency of response | Average burden per response (min) | Estimated annual burden (hours)
MCS | 172,200 | 1 | 11 | 31,570
MCS/Signature Proxy | 1,549,800 | 1 | 10 | 258,300
Paper | 21,000 | 1 | 11 | 3,850
Medicare-only MCS | 299,000 | 1 | 7 | 34,883
Medicare-only Paper | 1,000 | 1 | 7 | 117
Totals | 2,043,000 |  |  | 328,720
Form SSA-2:
MCS | 36,860 | 1 | 15 | 9,215
MCS/Signature Proxy | 331,740 | 1 | 14 | 77,406
Paper | 3,800 | 1 | 15 | 950
Totals | 372,400 |  |  | 87,571
Form SSA-16:
MCS | 218,657 | 1 | 20 | 72,886
MCS/Signature Proxy | 1,967,913 | 1 | 19 | 623,172
Paper | 24,161 | 1 | 20 | 8,054
Totals | 2,210,731 |  |  | 704,112
iClaim Burden Information:
iClaim 3rd Party | 28,118 | 1 | 15 | 7,030
iClaim Applicant after 3rd Party Completion | 28,118 | 1 | 5 | 2,343
First Party iClaim | 541,851 | 1 | 15 | 135,463
Medicare-only iClaim (new to this ICR) | 200,000 | 1 | 10 | 33,333
Totals | 798,087 |  |  | 178,169

Aggregate Public Reporting Burden: 1,298,572 hours.

Dated: November 10, 2009.
Elizabeth A. Davidson,
Director, Center for Clearance Officer, Social Security Administration.

[FR Doc. E9-27511 Filed 11-16-09; 8:45 am]

BILLING CODE 4191-02-P